DEPARTMENT OF COMMERCE

Patent and Trademark Office

Privacy Act of 1974; System of Records

AGENCY: United States Patent and Trademark Office, Commerce.

ACTION: Notice of amendment of Privacy Act system of records.

SUMMARY: In accordance with the requirements of the Privacy Act of 1974, as amended, the United States Patent and Trademark Office (USPTO) is amending the system of records currently listed under “COMMERCE/PAT-TM-14 Users of Public Facilities of the Patent and Trademark Office.” This action is being taken to update the Privacy Act notice. We invite the public to comment on the amendments noted in this publication.

DATES: Written comments must be received no later than April 18, 2013. The amendments will become effective as proposed on April 18, 2013, unless the USPTO receives comments that would result in a contrary determination.

ADDRESSES: You may submit written comments by any of the following methods:

• Email: psf@uspto.gov. Include “Privacy Act PAT-TM-14 comment” in the subject line of the message.

• Fax: (571) 273-0020, marked to the attention of Director, Public Search Services Division.

• Mail: Director, Public Search Services Division, United States Patent and Trademark Office, P.O. Box 1450, Alexandria, VA 22313-1450.

• Federal Rulemaking Portal: http://www.regulations.gov.

All comments received will be available for public inspection at the Federal rulemaking portal located at www.regulations.gov.

FOR FURTHER INFORMATION CONTACT: Martha Sneed, ATTN: Public Search Facility, United States Patent and Trademark Office, P.O. Box 1450, Alexandria, VA 22313-1450, (703) 756-1236.

SUPPLEMENTARY INFORMATION: The United States Patent and Trademark Office (USPTO) is giving notice of an amendment to a system of records that is subject to the Privacy Act of 1974. This system of records maintains information on users of the USPTO Public Search Facility. The Privacy Act notice is being updated with current address information for the system location and system manager. The description of the categories of records in the system is being revised to remove information that is no longer being collected, including user photographs, registration numbers (for those registered to practice before the USPTO), and information from government-issued identification cards. The description of the routine uses of records maintained in the system has been updated to include use in law enforcement, audits and oversight activities, and distribution to contractors, all uses commonly published in other agency system of records notices. The rule references for the notification procedure and contesting record procedures are being updated to correspond to the current statutes and rules for those items as related to the USPTO.

The Privacy Act system of records notice, “COMMERCE/PAT-TM-14 Users of Public Facilities of the Patent and Trademark Office,” was previously published at 64 FR 72640 (December 28, 1999). The amended system of records is published in its entirety below.

COMMERCE/PAT-TM-14

System name:

Users of Public Facilities of the Patent and Trademark Office.

Security classification:

Unclassified.

System location:

Public Search Facility, United States Patent and Trademark Office, Madison East 1st Floor, 600 Dulany Street, Alexandria, VA 22314.

Categories of individuals covered by the system:

Federal employees other than employees of the United States Patent and Trademark Office (USPTO); employees and other representatives of commercial firms offering patent search services to the public; registered agents before the USPTO; and any member of the general public who uses the search room.

Categories of records in the system:

Name; addresses; telephone numbers; business firm or other organizations with which affiliated; user access number; record of use; violations of policies governing use of the search facilities and other office areas; signature of recipients of user access number; and other information as needed to establish identity.

Authority for maintenance of the system:

5 U.S.C. 301 and 44 U.S.C. 3101.

Purpose(s):

To manage user access to the materials provided at USPTO Public Facilities in order to ensure that the materials are preserved and sufficient resources are allocated to serve the public.

Routine uses of records maintained in the system, including categories of users and the purposes of such uses:

(1) Routine uses will include disclosure of information to law enforcement authorities, employers of violators of regulations governing use of the search room, and organizations with which recipients of user passes claim affiliation. Information such as home address or business affiliation, on individuals who have removed, with proper authority, patent documents from the search room but have failed to return such documents, may be used in retrieving such documents.

(2) Routine uses will include disclosure for law enforcement purposes to the appropriate agency or other authority, whether federal, state, local, foreign, international or tribal, charged with the responsibility of enforcing, investigating, or prosecuting a violation of any law, rule, regulation, or order in any case in which there is an indication of a violation or potential violation of law (civil, criminal, or regulatory in nature).

(3) Routine uses will include disclosure to an agency, organization, or individual for the purpose of performing audit or oversight operations as authorized by law, but only such information as is necessary and relevant to such audit or oversight function.

(4) Routine uses will include disclosure to contractors and their agents, grantees, experts, consultants, and others performing or working on a contract, service, grant, cooperative agreement, or other work assignment for the United States Patent and Trademark Office, when necessary to accomplish an agency function related to this system of records. Individuals provided information under this routine use are subject to the same Privacy Act requirements and limitations on disclosure as are applicable to the United States Patent and Trademark Office employees.

(5) Routine uses will include the Prefatory Statement of General Routine Uses Nos. 1-5 and 9-13, as found at 46 FR 63501-63502 (December 31, 1981).

Disclosure to consumer reporting agencies:

Not applicable.

Policies and practices for storing, retrieving, accessing, retaining, and disposing of records in the system:

Storage:

Paper records in file folders and electronic storage.

Retrievability:

Alphabetically by name and sequentially by user access number. Also, electronic sort by data element.

Safeguards:

Records are located in lockable metal file cabinets or in metal file cabinets in secured rooms or secured premises with access limited to those whose official duties require access. Electronic files are stored in secured premises with access limited to those whose official duties require access. The electronic files are password protected and can only be accessed by authorized personnel.

Retention and disposal:

Records retention and disposal is in accordance with the series records schedules.

System manager(s) and address:

Manager, Public Search Facility, United States Patent and Trademark Office, P.O. Box 1450, Alexandria, VA 22313-1450, (571) 272-3275.

Notification procedure:

Information about the records contained in this system may be obtained by sending a request in writing, signed, to the system manager at the address above or to the address provided in 37 CFR part 102 subpart B for making inquiries about records covered by the Privacy Act. Requesters should provide their name, address, and record sought in accordance with the procedures for making inquiries appearing in 37 CFR part 102 subpart B.

Record access procedures:

Requests from individuals should be addressed as stated in the notification section above.

Contesting record procedures:

The general provisions for access, contesting contents, and appealing initial determinations by the individual concerned appear in 37 CFR part 102 subpart B. Requests from individuals should be addressed as stated in the notification section above.

Record source categories:

Subject individual, employers, and those authorized by the individual to furnish information.

Exemptions claimed for the system:

None.

Dated: March 14, 2013.
Susan K. Fawcett,
Records Officer, USPTO, Office of the Chief Information Officer.

[FR Doc. 2013-06262 Filed 3-18-13; 8:45 am]

BILLING CODE 3510-16-P